DEPARTMENT OF JUSTICE

[AAG/A Order No. 002-2007]

Privacy Act of 1974; Removal of Four Systems of Records Notices

Pursuant to the provisions of the Privacy Act of 1974 (5 U.S.C. 552a), the Department of Justice (DOJ), Criminal Division (CRM), is removing the published notices of four Privacy Act systems of records: “General Litigation and Legal Advice Section, Criminal Division, Central Index File and Associated Records, JUSTICE/CRM-004,” last published on December 11, 1987 at 52 FR 47190; “Index to Names of Attorneys Employed by the Criminal Division, U.S. Department of Justice, Indicating the Subject of the Memoranda on Criminal Matters They Have Written, JUSTICE/CRM-005,” last published on December 11, 1987 at 52 FR 47191; “Name Card File on Criminal Division Personnel Authorized to Have Access to the Central Criminal Division Records, JUSTICE/CRM-007,” last published on December 11, 1987 at 52 FR 47192; and, “Weekly Statistical Report, JUSTICE/CRM-023,” last published on January 10, 1980 at 45 FR 2195.

These system notices are unnecessary because both the systems and the actual records have all been determined to no longer meet any business need of the Criminal Division. In each case the records were destroyed pursuant to the National Archives and Records Administration General Records Schedule 23.

Therefore, the notices for the above-named systems of records are removed from the Department's listing of Privacy Act systems of records notices, effective on the date of publication of this notice in the Federal Register.

Dated: January 22, 2007.
Lee J. Lofthus,
Assistant Attorney General for Administration.

[FR Doc. E7-1562 Filed 1-30-07; 8:45 am]

BILLING CODE 4410-14-P